DEPARTMENT OF DEFENSE

Office of the Secretary

Renewal of Department of Defense Federal Advisory Committees—Defense Advisory Committee on Women in the Services

AGENCY: Department of Defense (DoD).

ACTION: Federal advisory committee renewal.

SUMMARY: The DoD is publishing this notice to announce that it is renewing the charter of the Defense Advisory Committee on Women in the Services (DACOWITS).

FOR FURTHER INFORMATION CONTACT: Jim Freeman, Advisory Committee Management Officer for the Department of Defense, 703-692-5952.

SUPPLEMENTARY INFORMATION: The DACOWITS charter is being renewed in accordance with chapter 10 of title 5, United States Code (U.S.C.) (commonly known as the “Federal Advisory Committee Act” or “FACA”). The charter and contact information for the DACOWITS' Designated Federal Officer (DFO) are found at https://www.facadatabase.gov/FACA/apex/FACAPublicAgencyNavigation.

The DACOWITS provides independent advice and recommendations on matters and policies relating to recruitment, retention, employment, integration, well-being, and treatment of servicewomen in the Armed Forces of the United States. All DACOWITS work, including subcommittee work, is in response to written terms of reference or taskings approved by the Secretary of Defense or the Deputy Secretary of Defense (“the DoD Appointing Authority”), or the Under Secretary of Defense for Personnel and Readiness unless otherwise provided by statute or Presidential directive.

The DACOWITS is composed of no more than 20 members who have prior experience in the military or with women-related workforce issues. Members will include leaders with diverse and inclusive backgrounds, experience, and thought relating to the recruitment and retention, the employment and integration, and the well-being and treatment of women. These members will come from varied backgrounds including academia, industry, private and public sector, and other professions.

The appointment of DACOWITS members is approved by the DoD Appointing Authority for a term of service of one-to-four years, with annual renewals, in accordance with DoD policy and procedures. No member, unless approved by the DoD Appointing Authority, may serve more than two consecutive terms of service on the DACOWITS, to include its subcommittees, or serve on more than two DoD Federal Advisory Committees at one time. DACOWITS members who are not full-time or permanent part-time Federal civilian officers or employees, or active-duty members of the Uniformed Services, are appointed as experts or consultants pursuant to 5 U.S.C. 3109 to serve as special government employee members. DACOWITS members who are full-time or permanent part-time Federal civilian officers or employees, or active-duty members of the Uniformed Services, are appointed pursuant to 41 CFR 102-3.130(a) to serve as regular government employee members. The DoD Appointing Authority appoints the DACOWITS' leadership from among the membership previously appointed in accordance with DoD policy and procedures, for a term of service of one-to-two years, with annual renewal, not to exceed the member's approved appointment.

All members of the DACOWITS are appointed to exercise their own best judgment, without representing any particular point of view, and to discuss and deliberate and in a manner that is free from conflict of interest. With the exception of reimbursement of official DACOWITS-related travel and per diem, DACOWITS members serve without compensation.

The public or interested organizations may submit written statements to the DACOWITS membership about the DACOWITS' mission and functions. Written statements may be submitted at any time or in response to the stated agenda of planned meeting of the DACOWITS.

All written statements shall be submitted to the DFO for the DACOWITS, and this individual will ensure that the written statements are provided to the membership for their consideration.

Dated: April 24, 2024.
Aaron T. Siegel,
Alternate OSD Federal Register Liaison Officer, Department of Defense.

[FR Doc. 2024-09244 Filed 4-29-24; 8:45 am]

BILLING CODE 6001-FR-P